DEPARTMENT OF THE TREASURY

Proposed Collection; Comment Request; Office of the Procurement Executive

AGENCY: Department of Treasury, Departmental Offices.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). The Department of the Treasury, Office of the Procurement Executive, is soliciting comments on these collections of information that are scheduled to expire.

DATES: Written comments must be received on or before May 22, 2012 to be assured of consideration.

ADDRESSES: You may submit comments by any of the following methods:

www.PRAComment.gov. To provide your comments, selected the “comment page” link and follow the instructions for submitting comments.

email: Frenando.Tonolete@treasury.gov. The subject line should contain the OMB number and title for which you are commenting.

Mail: Fernando Tonolete, Office of the Procurement Executive, Department of the Treasury, 1500 Pennsylvania Ave. NW., Metropolitan Square, Suite 6B517, Washington DC 20220.

All responses to this notice will be included in the request for OMB's approval. All comments will also become a matter of public record.

FOR FURTHER INFORMATION CONTACT: Requests for additional information or request a copy of the information collection should be directed to Fernando Tonolete (202) 622-6416.

SUPPLEMENTARY INFORMATION: OMB Number: 1505-0080.

Type of Review: Extension without change of a currently approved collection.

Title: Post-Contract Award Information.

Abstract: Information requested of contractors is specific to each contract and is required for Treasury to properly evaluate the progress made and/or management controls used by contractors providing supplies or services to the Government, and to determine contractors' compliance with the contracts, in order to protect the Government's interest.

Affected Public: Private Sector: Businesses or other for-profits.

Estimated Number of Respondents: 9,213.

Estimated Number of Responses per Respondent: 1.

Estimated Hours per Response: 24.

Estimated Total Annual Burden Hours: 221,118.

OMB Number: 1505-0081.

Type of Review: Extension without change of a currently approved collection.

Title: Solicitation of Proposal Information for Award of Public Contracts.

Abstract: Information requested of offerors is specific to each procurement solicitation, and is required for Treasury to properly evaluate the capabilities and experience of potential contractors who desire to provide the supplies or services to be acquired. Evaluation will be used to determine which proposal most benefit the Government.

Affected Public: Private Sector: Businesses or other for-profits.

Estimated Number of Respondents: 32,345.

Estimated Number of Responses per Respondent: 1.

Estimated Hours per Response: 9.

Estimated Total Annual Burden Hours: 291,103.

OMB Number: 1505-0107.

Type of Review: Extension without change of a currently approved collection.

Title: Regulation Agency Protests.

Abstract: Information is requested of contractors so that the Government will be able to evaluate protests effectively and provide prompt resolution of issues in dispute when contractors file protests.

Affected Public: Private Sector: Businesses or other for-profits.

Estimated Number of Respondents: 25.

Estimated Number of Responses per Respondent: 1.

Estimated Hours per Response: 2.

Estimated Total Annual Burden Hours: 50.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology, and (e) estimates of capital or start-up costs and costs of operation, maintenance, and purchase of services to provide information.

Dawn D. Wolfgang,
Treasury PRA Clearance Officer.

[FR Doc. 2012-6991 Filed 3-22-12; 8:45 am]

BILLING CODE 4810- 25-P